SUSQUEHANNA RIVER BASIN COMMISSION

Actions Taken at December 15, 2022 Meeting

AGENCY: Susquehanna River Basin Commission

ACTION: Notice.

SUMMARY: As part of its regular business meeting held on December 15, 2022, in Harrisburg, Pennsylvania, the Commission approved the applications of certain water resources projects, and took additional actions, as set forth in the Supplementary Information below.

DATES: December 15, 2022.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above these actions were also taken: (1) adoption of the regulatory program fee schedule for CY2023; (2) adoption of a resolution recognizing the 50th anniversary of the Clean Water Act; (3) and approval of contracts, grants and agreements.

Project Applications Approved

1. Project Sponsor and Facility: Blossburg Municipal Authority, Bloss Township, Tioga County, Pa. Applications for groundwater withdrawals (30-day averages) of up to 0.144 mgd from Taylor Run Well 1 and 0.144 mgd from Taylor Run Well 3.

2. Project Sponsor and Facility: BlueTriton Brands, Inc. (Valley View Springs), Hegins Township, Schuylkill County, Pa. Applications for renewal of surface water withdrawal of up to 0.200 mgd (peak day) and consumptive use of up to 0.200 mgd (peak day) (Docket No. 19971101).

3. Project Sponsor: Constellation Energy Generation, LLC. Project Facility: Three Mile Island Generating Station, Londonderry Township, Dauphin County, Pa. Applications for renewal of groundwater withdrawals (30-day averages) of up to 0.099 mgd from Well A, 0.099 mgd from Well B, and 0.099 mgd from Well C (Docket No. 20110610), and Commission-initiated modification of surface water and consumptive use approvals based on changes in operating status of the project and revised demand projections.

4. Project Sponsor: Corning Incorporated. Project Facility: Corporate Headquarters, City of Corning, Steuben County, N.Y. Application for renewal of groundwater withdrawal of up to 1.440 mgd (30-day average) from Well 6A (Docket No. 19981201).

5. Project Sponsor and Facility: Dover Township, York County, Pa. Applications for groundwater withdrawals (30-day averages) of up to 0.088 mgd from Well 10 (Docket No. 19911104).

6. Project Sponsor and Facility: Hughesville Borough Authority, Wolf Township, Lycoming County, Pa. Applications for renewal of groundwater withdrawals (30-day averages) of up to 0.260 mgd from Well 1, 0.260 mgd from Well 2, and 1.440 mgd from Well 3 (Docket No. 20070604).

7. Project Sponsor: Municipal Authority of the Township of East Hempfield. Project Facility: Hempfield Water Authority, East Hempfield Township, Lancaster County, Pa. Applications for renewal of groundwater withdrawals (30-day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

8. Project Sponsor and Facility: Repsol Oil & Gas USA, LLC (Choconut Creek), Choconut Township, Susquehanna County, Pa. Application for renewal of surface water withdrawal of up to 0.999 mgd (peak day) (Docket No. 20171206).

9. Project Sponsor: State College Friends Limited Partnership. Project Facility: Toftrees Golf Resort (Pond 9), Patton Township, Centre County, Pa. Applications for surface water withdrawal of up to 0.750 mgd (peak day), and renewal with modification to increase consumptive use (peak day) by an additional 0.480 mgd, for a total consumptive use of up to 0.750 mgd (Docket No. 20021010).

10. Project Sponsor and Facility: SWN Production Company, LLC (Lycoming Creek), Lewis Township, Lycoming County, Pa. Application for renewal of surface water withdrawal of up to 0.500 mgd (peak day) (Docket No. 20171208).

11. Project Sponsor and Facility: SWN Production Company, LLC (Lycoming Creek), McIntyre Township, Lycoming County, Pa. Application for renewal of surface water withdrawal of up to 0.500 mgd (peak day) (Docket No. 20171209).

12. Project Sponsor: The United States Department of Veterans Affairs. Project Facility: Indiantown Gap National Cemetery, East Hanover and Union Townships, Lebanon County, Pa. Application for consumptive use of up to 0.099 mgd (30-day average).

13. Project Sponsor: Veolia Water Pennsylvania, Inc. Project Facility: Grantham Operation, Upper Allen Township, Cumberland County, Pa. Application for renewal of groundwater withdrawal of up to 0.395 mgd (30-day average) from Well 2 (Docket No. 19901104).

Project Scheduled for Action Involving a Diversion

1. Project Sponsor and Facility: BlueTriton Brands, Inc. (Valley View Springs), Hegins Township, Schuylkill County, Pa. Application for approval of an out-of-basin diversion of up to 0.200 mgd (peak day).

Project Tabled

1. Project Sponsor and Facility: Dover Township, York County, Pa. Applications for groundwater withdrawals (30-day averages) of up to 0.360 mgd from Well 8 (Docket No. 19911104).

Authority: Public Law 91-575, 84 Stat. 1509 et seq., 18 CFR parts 806, 807, and 808.

Dated: December 20, 2022.
Jason E. Oyler,
General Counsel and Secretary to the Commission.

[FR Doc. 2022-28055 Filed 12-23-22; 8:45 am]

BILLING CODE 7040-01-P